DEPARTMENT OF THE INTERIOR

Bureau of Indian Affairs

Final Determination To Acknowledge the Historical Eastern Pequot Tribe

AGENCY: Bureau of Indian Affairs, Interior.

ACTION: Notice.

SUMMARY: Notice is hereby given that the Assistant Secretary acknowledges that the historical Eastern Pequot tribe, represented by two petitioners, the Eastern Pequot Indians of Connecticut and the Paucatuck Eastern Pequot Indians of Connecticut, satisfies all seven criteria for acknowledgment as a tribe in 25 CFR 83.7. This notice covers the final determination concerning both petitioners.

DATES: This determination is final and is effective 90 days from the date of publication of this notice, pursuant to 25 CFR 83.10(l)(4), unless a request for reconsideration is filed pursuant to 25 CFR 83.11.

FOR FURTHER INFORMATION CONTACT: R. Lee Fleming, Chief, Branch of Acknowledgment and Research, (202) 208-3592.

SUPPLEMENTARY INFORMATION: This notice is published in the exercise of authority delegated by the Secretary of the Interior to the Assistant Secretary—Indian Affairs by 209 DM 8.

This notice is based on a determination that the historical Eastern Pequot tribe, represented by two petitioners, the Eastern Pequot Indians of Connecticut and the Paucatuck Eastern Pequot Indians of Connecticut, satisfies the seven criteria for acknowledgment in 25 CFR 83.7.

A notice of the proposed finding to acknowledge the Eastern Pequot Indians of Connecticut (EP) was published in the Federal Register on March 31, 2000, simultaneously with a notice of the proposed finding to acknowledge the Paucatuck Eastern Pequot of Connecticut (PEP) (65 FR 17294-17304). The original 180 day comment period on these proposed findings, which would have ended September 27, 2000, was extended at the request of the State of Connecticut to March 26, 2001, and a second extension was made at the request of the State until June 1, 2001. The actual closing of the comment period, August 2, 2001, was established as part of a scheduling order entered by the Federal District Court for Connecticut in Connecticut v. Dept. of the Interior, (D. Conn. 2001) (No. 3:01-CV-88-AVC).

The proposed findings to acknowledge both petitioners concluded that both of the petitioners before the Department, the EP (petitioner #35) and the PEP (petitioner #113), had derived in recent times from the historical Eastern Pequot tribe which had existed continuously since first sustained contact with Europeans. However, for the period from 1973 to the present, with regard to criteria 83.7(b) and 83.7(c), the Department found that the petitioners and third parties had not provided sufficient information and analysis to enable the Department to determine whether there was only one tribe with political factions or two tribes and provided that this question would be resolved after receipt of comment on the proposed findings. The proposed finding stated that a specific finding concerning whether one tribe or two tribes, as successors to the historical Eastern Pequot tribe, have occupied the reservation since 1973 would be made as part of the final determination, after receipt of comment on the proposed findings.

This determination is made following a review of the responses to the proposed findings on both petitioners, the public comments on the proposed findings and the EP and PEP responses to the public comments. This final determination has reviewed the evidence considered for the proposed findings, and evaluated that evidence in the light of the new documentation and argument received from third parties and the petitioners.

This final determination concludes that the evidence shows the existence of only a single tribe, the historical Eastern Pequot tribe, including the ancestors of both petitioners. This tribe was continuously recognized as a single tribe by the State of Connecticut since early colonial times and occupied a single state reservation. Although there are internal conflicts, and divisions which date from as early as the beginning of the 20th century, there is only one tribe within the meaning of the regulations. This final determination rejects the arguments presented by the PEP petitioner that it was not and had never historically been part of the same tribe as the families included in the present EP petitioner.

The evidence in the record for the final determinations demonstrates that the two petitioners comprise a single tribe and together meet the requirements for Federal acknowledgment as the historical Eastern Pequot tribe from first sustained contact with Europeans until the present. This final determination therefore acknowledges that the historical Eastern Pequot tribe comprising the membership of the two petitioners, the EP (petitioner #35) and the PEP (petitioner #113), exists as a tribe entitled to a government-to-government relationship with the United States.

Although the two petitioners represent portions of the historical tribe which have grown somewhat separate socially in recent decades, this partial separation resulted from political conflicts which provided some of the strongest evidence in much of the 20th century that the group as a whole continued to have significant political processes which concerned issues of great importance to the entire body of Eastern Pequots.

This determination acknowledges the Eastern Pequot tribe, which has existed continuously since first sustained contact with non-Indians. The Department takes this action of acknowledging two petitioners as a single tribe because that is what the evidence demonstrates concerning the circumstances of these petitioners. This determination does not merge two tribes, but determines that only a single tribe exists which is represented by two petitioners.

The petitioners are two organizations which were established in recent times from the membership of a single historically and continuously existing state recognized tribe resident on a state reservation which it has occupied since 1683. Although the regulations call for the presentation of petitions from groups seeking acknowledgment as a tribe, and for the Department to evaluate those petitions, the fundamental purpose of the regulations is to acknowledge the existence of tribes. The Secretary does not have the authority to acknowledge portions of tribes, where that portion does not substantially encompass the body of the tribe. The Secretary does have the authority to recognize a single tribe in the circumstance where the tribe is represented by more than one petitioner.

The State of Connecticut has since early colonial times continuously recognized the Eastern Pequot as a distinct tribe with a separate land base provided by and maintained by the State. The continuous State relationship manifested itself in the distinct, non-citizen status of the tribe's members until 1973. There is implicit in the relationship between the State and the historical Eastern Pequot a recognition of a distinct political body, in part because the relationship originates with and derives from the Colony's relationship with a distinct political body at the time the relationship was first established. Colony and State laws and policies directly reflected this political relationship until the early 1800's. The distinct political underpinning of the laws is less explicit from the early 1800's until the 1970's, but the Eastern Pequot remained non-citizens of the State until 1973. The State continued the main elements of the earlier relationship (legislation that determined oversight, established and protected land holdings, and exempted tribal lands from taxation) essentially without change or substantial questioning throughout this time period.

The historically continuous State relationship provides additional evidence which exists throughout the time span but is most important during specific periods where the other evidence in the record concerning community and political influence would be insufficient by itself. The continuous State relationship, although its nature varied from time to time, provides additional evidence in part because of its continuity throughout the entire history of the Eastern Pequot tribe. The continuous State relationship with a reservation is not evidence sufficient in itself to meet the criteria and is not a substitute for direct evidence at a given point in time or over a period of time. Instead this longstanding State relationship and reservation are additional evidence which, when added to the existing evidence, demonstrates that the criteria are met at specific periods in time.

Criterion 83.7(a): External identifications by the State of Connecticut and others have identified a single Eastern Pequot tribe from 1900 until the present. There are no identifications of a separate EP or PEP entity until the creation of the now-existing organizations during the 1970's. Before 1973, the antecedents of the current petitioners were mentioned, if they were distinguished at all, as subgroups, with conflicts, within the Eastern Pequot tribe. Since the 1973-1976 period, the majority of external identifications, particularly by the State of Connecticut, have continued to be identifications of a single Eastern Pequot tribe, with internal conflicts. Therefore the historical Eastern Pequot tribe, comprising both petitioners, meets the requirements of criterion 83.7(a).

Criterion 83.7(b): The proposed finding concluded that the historical Eastern Pequot tribe met criterion 83.7(b) from the colonial period through 1873. No significant new evidence or arguments were submitted in regard to the nature of the historical Eastern Pequot community in the colonial period or from the era of the American revolution into the third quarter of the 19th century. Throughout this time period there remained a reservation community with a majority of the tribal members resident in it, if not continuously, at least regularly, with the remainder of the group maintaining contact. Such evidence is sufficient under § 83.7(b)(2)(i). There is additional evidence, specifically petitions and overseers' reports, that the direct antecedents of both petitioners were a part of that single historical community in the 19th century. The proposed finding for this period is affirmed.

From the assignment of Harmon Garrett in 1654 as governor of the Pequots who were removed from Ninigret's responsibility to the present, the Eastern Pequot tribe as a whole has maintained a named, collective Indian identity continuously over periods of more than 50 years, notwithstanding changes in name (83.7(b)(1)(viii)). This form of evidence is used throughout the evaluation under criterion 83.7(b) in combination with the evidence of community analyzed for each period from colonial times until the present.

The proposed findings concluded that evidence demonstrated that the Eastern Pequot existed as a tribe for the period between 1873 and 1920 and had demonstrated community for that period. Significant new evidence was submitted for the final determination to affirm this conclusion. The new data included a better copy of a June 26, 1873, petition in which the “members of the Pequot tribe of Indians of North Stonington” remonstrated against sale of lands and requested removal of Leonard C. Williams as overseer. The list of signers shows a connection between Tamar (Brushell) Sebastian and her children and other members of the historical Eastern Pequot tribe. Additional overseers' reports were submitted which further filled in the time span from the 1880's through the early 20th century with evidence that there was a distinct Eastern Pequot community and that this included the antecedent families of both petitioners.

This final determination affirms the conclusions of the proposed finding that there was a high degree of marriage among the Eastern Pequot and in culturally patterned marriages of Eastern Pequots with Narragansetts, Western Pequots, and other local Indians during this time period, which provided substantial evidence of community. The resulting kinship ties linked all of the component family lines which are represented in the current membership today. Additional data submitted in response to the proposed finding confirmed the conclusion that the geographical concentration of the membership during this time period was close enough to facilitate social interaction.

Substantial evidence showing patterns of social association within the Eastern Pequot was presented in new analyses submitted in response to the proposed finding. New evidence in the form of data from personal journals was submitted which provided contemporary data concerning social interactions which supported and was consistent with data from interviews. The evidence submitted in response to the proposed findings confirmed that the social alignment of the various families antecedent to the formation of the current petitioners was not strictly divided in the pattern that the current petitions indicate.

In the following period, from 1920 to 1940, there continued to be strong evidence of community, with additional evidence submitted. The high degree of marriage among the Eastern Pequot and in culturally patterned marriages between other Indians in the region provided strong evidence of community in this period. Additional evidence was submitted to demonstrate visiting patterns among the Sebastians during this time period, which confirms the existence of social cohesion among that portion of the Eastern Pequot tribe. A review of documentary and interview evidence also clearly indicates social ties between the Sebastians and other major family lines, the Jacksons and the Fagins/Randall lines, during this period.

Substantial additional evidence concerning Fourth Sunday meetings, prayer and social gatherings, was submitted in response to the proposed findings. This evidence demonstrated that the meetings occurred regularly and involved a cross section of the Eastern Pequot tribe. The Fourth Sunday meetings were held from the mid 1910's through at least the later 1930's. They are probably a continuance of religious meetings of a similar character which had been held for some time previously, organized by leader Calvin Williams who died in 1913. Although these meetings were not strictly limited to Eastern Pequot tribal members, they were essentially meetings of Eastern Pequot, and Western Pequot and Narragansett to whom they were related or otherwise socially affiliated. The Eastern Pequots who attended included Sebastians, Randalls, and to some extent Jacksons, though by all evidence not the other major family line, the Gardners. Thus, the proposed finding's conclusion that Fourth Sunday meetings were evidence of community is affirmed.

Community from 1940 to 1973 is demonstrated more strongly than for the proposed findings because of the submission of new evidence. There was a strong demonstration of social cohesion among the families antecedent to the EP petitioner because substantial new data was presented which demonstrates visiting patterns and small scale gatherings which crossed family sublines. Interview and documentary data demonstrate that social interaction occurred between the 1920's and on into the 1960's which drew in and occurred between residents of the reservation and those within the orbit defined by New London, Norwich, Mystic and Westerly around the Lantern Hill reservation, with substantial long term connections with Hartford and Providence.

The main antecedent family of the PEP petitioner, the Gardners, was a very small social unit during this time period, and closely related enough to assume social cohesion among them, In addition, gatherings among the Gardners, organized by Atwood I. Williams, Sr., and Helen LeGault, were also shown for this small kinship group.

In the 1970's, because there was still a body of adult Jacksons in the tribe, there was not the same separation within the Eastern Pequot tribe that the present division into two petitioners suggests. The Jackson line, as it had since at least the early 1900's, played the role of bridge or connector between the two lines that today are numerically predominant in the two petitioners, the Sebastians (for EP) and Gardners (for PEP). The evidence reviewed for this final determination demonstrated substantial social links between the Sebastians and the Jacksons, and for the Jacksons with the Gardners continuing from the beginning of the 20th century into the 1970's, indicating one community.

Better and more detailed geographical data on residence patterns confirmed the patterns identified in the proposed finding as providing supporting evidence for community among the EP and PEP memberships individually and thus for the Eastern Pequot as a whole. Additional evidence for community before 1973 is found in the political events of the subsequent decade. These events, in reaction to the formation of the Connecticut Indian Affairs Commission (CIAC) and changes in Connecticut policies beginning in 1973, provide substantial evidence that community existed before that time. The social connections, social distinctions, and political issues, shown by events from 1973 through 1983, are of a strength and character that indicate they were already in existence before that time.

From 1973 to the present, the evidence as presented to the Department by the two petitioners reflects increasing polarization of social ties. However, the overall picture demonstrated by the evidence is that there continues to be one tribe, albeit now with two demarcated subgroups.

The geographic pattern of residence past and present among the EP petitioner's portion of the tribe is sufficiently close to be supporting evidence of more direct evidence of social connections. This determination also concludes that the evidence of control and allocation of the Lantern Hill reservation resources by the EP and the PEP organizations among their respective memberships is evidence for the existence of political processes and therefore strong supporting evidence for the existence of community. The PEP membership is small and fairly closely related, with 90 percent drawn from the two Gardner family sublines. There is direct evidence that kinship relations are recognized within and between its two main subdivisions, the Gardner/Edwards and the Gardner/Williams. The present geographic pattern of residence of the PEP portion of the Eastern Pequot, the Gardner family lines, is close enough that significant social interaction is feasible but is not so concentrated as to provide supporting evidence of community in itself. The interview evidence for the proposed finding indicated that there were social contacts maintained between the most socially connected portion of the PEP membership and those living at a distance. PEP also presented an analysis of relationships within the overall Gardner line, based on defining a core social group with which approximately 90 percent had demonstrable close kinship ties and/or social contacts. This analysis was generally consistent with available interview information about social contacts.

Because the political processes of the entire Eastern Pequot bridge the two petitioning groups in that their crucial focus is on controlling and maintaining access rights to a single historical reservation established for a single historical tribe, this final determination concludes that there is one group encompassing both current petitioners. The evidence presented is sufficient to meet the requirements for demonstrating social community from 1973 to the present, even though, from 1973 to the present, the petitioners have developed into increasingly separate social segments. Each of the major segments, EP and PEP, has significant internal social cohesion. The segments are united by the overall political processes, even when these are illustrated primarily by political disagreements over the Lantern Hill reservation. There is no requirement in the regulations that social relationships be distributed uniformly throughout a community nor that they be amicable. Rather, community is to be interpreted in accord with the history and culture of a particular group (25 CFR 83.1).

The evidence demonstrates that the historical Eastern Pequot tribe maintained a distinct social community within which significant social ties existed historically since first sustained contact with non-Indians and which has continued through the present. These ties within the membership encompass the members of both petitioning groups, even after the development of their separate formal organizations. The historical Eastern Pequot tribe, comprising both current petitioners, meets the requirements of criterion 83.7(b).

Criterion 83.7(c): The proposed findings' conclusion that the historical Eastern Pequot tribe, which included the antecedents of both current petitioners, met criterion 83.7(c) from the colonial period through 1873 is affirmed. No significant new evidence or arguments in regard to this early period was presented for the final determination by either petitioner or by the third parties.

Political influence from 1873 to 1920 was shown in part by a sequence of Eastern Pequot petitions from June 1873 through 1883 which were presented to the Superior Court by the “members of the Pequot tribe of Indians of North Stonington.” In petitions in 1874 and 1883, the Gardner and Jackson families (antecedent to PEP) appear in common with Calvin Williams and the members of the Fagins/Randall and Fagins/Watson families (antecedent to EP), signing the same document for the same purpose. The Sebastians appear in another petition in this decade, together with the Jacksons and Fagins/Randalls and Fagins/Watsons.

The proposed finding noted that there was no clear evidence of political processes or leadership between 1880 and 1920, although the evidence of community was strong enough to be good supporting evidence. New evidence submitted for the final determination shows that during the first decade of the 20th century Calvin Williams functioned as a leader who was dealt with by the overseer, represented the Eastern Pequots to the overseer, and consulted with the membership on decisions. Supporting evidence of his leadership came from an analysis of kinship patterns which showed that Williams was related by marriage and through collateral links to many of the Eastern Pequot families.

The strong character of the community, especially based on intermarriage ties, provides strong supporting evidence for the existence of significant political processes during the period from 1913 to 1940.

Atwood I. Williams, Sr. was the state-recognized leader for all of the Eastern Pequots from 1933 until his death in 1955. There is limited evidence, from documents and interviews, that he was elected, by a portion of the membership at least, and that the State took notice of this election. Even though Williams took a stance against the membership of the Brushell/Sebastian portion of the Eastern Pequots, he was recognized by and dealt with by the State as leader of the entire group. He continued to be consulted by State representatives of the Park and Forest Commission, which at that point had responsibility for dealing with the Connecticut tribes, on matters concerning the tribe and its reservation through the late 1930's.

For the time period between 1913 and 1940, particularly from 1913 to 1929, between the death of Calvin Williams and the appearance of Atwood I. Williams, Sr., as an influential leader, the continuous State relationship with the Eastern Pequot as an Indian tribe provides additional evidence which, in combination with the limited direct evidence, demonstrates continuity of political processes throughout periods in which there is not sufficient positive evidence by itself, but in which positive evidence exists. That evidence includes the role of Tamar Emeline (Sebastian) Swan Williams, the widow of Calvin Williams. Although this final determination does not affirm the proposed finding's conclusion that she was an informal political leader for the EP antecedent families, the evidence supports a conclusion that she was a social leader whose religious activities were well-known and that these activities, especially hosting the Fourth Sunday meetings, provided a focal point for the tribe's members to interact with one another (see criterion 83.7(b)). The few pieces of evidence that might directly indicate the exercise of political influence on her part are not present in sufficient numbers to show that this was the case.

The evidence for political influence between 1940 and 1973 includes the continuance of Atwood Williams, Sr., as the state-recognized leader for all of the Eastern Pequots until his death in 1955, although there was no documentation of his activity between 1941 and 1947. Even though Williams took a position against a portion of the Eastern Pequots, he was recognized by and dealt with by the State as leader of the entire tribe. Although State implementation of his status was inconsistent and varied, it existed throughout the time span from 1933 to 1955.

Additional evidence of political processes in this period is provided by a 1953 expedition of Eastern Pequots, mainly Lantern Hill reservation residents, to Hartford to oppose a bill to “detribalize” Connecticut's Indians. This group was led by Catherine (Sebastian) Carpenter Harris and included Jacksons as well as Sebastians.

The evidence is not entirely clear whether the frequent actions by Helen LeGault (a Gardner) in complaining to the State authorities about the presence and activities of the Sebastians on the reservation during the 1950's and 1960's, and her appearance as a witness in 1961 State legislative hearings to seek amendments which would have limited their residence, represented only her opinions or also those of a body of public opinion among a portion of the Eastern Pequots. There is good evidence that she had the support of the Gardner/Edwards portion of the Gardners and there is some interview evidence to indicate that her opinions exerted influence on the other portion of the Gardners, among the children of the late Atwood I. Williams (the Gardner/Jackson subline). There is also some evidence of opposition to her by both Jacksons and Sebastians, evidence which shows political processes.

This final determination does not find sufficient evidence to support the EP and PEP proposed findings' conclusion that Alden Wilson, Roy Sebastian, Sr., Arthur Sebastian, Jr., Catherine Harris, and Atwood Williams, Jr., taken singly, were informal leaders of various portions of the Eastern Pequot tribe between 1940 and 1973. Neither is there clear indication that during this period Paul Spellman of the Hoxie/Jackson line served as an informal leader as asserted by PEP, although he was well known to outsiders and there is documentation of some limited communication between him and the State in regard to the management of the Lantern Hill reservation.

The political events of the subsequent era, from 1973 through the early 1980's, provide substantial evidence that political processes and community existed before that time. The form the political processes took in response to the State's legal and policy changes and the intensity of actions in response to these changes indicate preexisting political issues and opinions as well as preexisting social connections, distinctions, and alignments. Rather than being newly created, they indicate preexisting community and political processes.

For this time period, and particularly from 1955 to the early 1970's, compiled together, the whole complex of individual leaders' activities, sometimes formal, sometimes informal, coming from the antecedent family lines of both petitioners, with fluctuating alliances of the different family lines supporting them, provides some evidence to demonstrate political influence. The activities of Helen LeGault provide part of the thread connecting the 1970's and the immediately preceding period. There is no question that social community, in part defined by significant social divisions based on family lines and disputes with considerable historical depth, existed throughout the period from 1940 to 1973.

The continuous state relationship with the Eastern Pequot as an Indian tribe and continuing existence of the Lantern Hill reservation with tribal members resident on it under state supervision is additional evidence which, in combination with the other evidence, demonstrates continuity of political processes throughout the period, from 1940 to 1973, in which there is not otherwise sufficient positive evidence, but in which positive evidence does exist.

The political events of the 1970's clearly demonstrate that a single Eastern Pequot tribe with political processes existed. In the conflict from 1973 onward, three different subgroups sought to obtain official approval as representing the Eastern Pequot tribe, or as being the Eastern Pequot tribe. However, the alignments were not strictly along family lines, since the Jacksons had the support of Alton Smith, a leading Sebastian. At the same time, the conflicts of this period were a continuation of the distinctions and political issues that structured the tribe before 1973.

Because there was still a body of adult Jacksons in the tribe in the 1970's, there was not then the same separation that appears today. Instead, since this line played a bridge or connecting role between the two lines that today are numerically predominant in the two petitioners (Sebastian for EP and Gardner for PEP), and had done so since at least the early 1900's, their presence demonstrates that there was a single political field in the 1970's within which the conflict was played out, rather than a conflict between two completely separate groups. It was not until 1989 that PEP asked the Jacksons to join them. The recentness of this request indicates that the alignments among the Eastern Pequot subgroups were still being adjusted in 1989. At the same time, the Sebastians initially presented themselves as representing the interests of part of a tribe, the descendants of Tamar (Brushell) Sebastian, which was being threatened by the activities of Helen LeGault's Authentic Eastern Pequots organization in regard to CIAC representation, rather than as a separate tribe. In the late 1970's, the antecedents of the two current organizations were in fact organizations of two of the family lines of the Eastern Pequot tribe (Gardner and Sebastian)—neither the Hoxie/Jacksons who were not also Gardner descendants nor the Fagins descendants were initially included in either one. The Sebastians in particular viewed the initial conflict as one in which they needed to have their own family's interests represented—demonstrating that the conflict was one of interest groups within a particular political system.

The events of the 1970's which led to the formation of the two organizations demonstrate a high level of political processes within the tribe which involved the main kinship segments, the Sebastians, Jacksons and Gardner/Edwards. The events reflect the on-going political issues of access to and control of the reservation lands and the internal dispute over the legitimacy of the Sebastians as members. The formation of the CIAC and the beginnings of transfer of power over the reservation to the Eastern Pequot tribe triggered this high level of political conflict because it provided an opportunity, not previously existent, for one of the contending Eastern Pequot subgroups to seek to obtain designation as the Eastern Pequot tribe or status as the Eastern Pequot tribe's sole representative. These events mobilized large portions of the relatively small number of adult individuals then alive. The events were clearly a contest for power, resting on the preexisting social context and conflicts, and by definition show political process.

Both EP and PEP, in the modern period since 1973, demonstrate substantial political processes within their own membership. Each deals with the same issues—control over portions of the reservation and whether the Sebastians are part of the tribe. These issues have existed as an unbroken continuity from at least as early as the 1920's, a point in time for which there is strong evidence for the existence of a single community. The division into two political organizations is a recent development, and the evidence demonstrates a single political entity with strong internal divisions. The alignment in its present form, which did not exist in the 1970's, represents the results of a historical political process which is not now complete.

The EP as a separate organization and PEP as a separate organization each demonstrates substantial political processes through dealing with political issues of importance to its own membership. Each petitioner has shown political involvement, beyond mere attendance at meetings, by a substantial portion of its adult membership, both by percentage and by distribution across family sublines, throughout the entire time period from 1973 to the present.

The importance of reservation access and residency rights to the membership of both EP and PEP is supported by the history of visiting with reservation residents and association with the reservation which was widespread among the non-resident Eastern Pequots (both EP and PEP) past and present and is not limited to a small group of reservation residents. These are issues of importance because they involve the loss or potential loss of significant resources, membership, and access to the reservation, which are current for the membership. There is more than sufficient evidence of visiting the reservation, residence there by close relatives, hunting, and social gatherings on the reservation in the lifetimes of the present membership to conclude these are political issues of importance.

In addition, the EP council has exercised effective control over much of the reservation, regulating residence and land use, from the early 1980's to the present. This function was exercised regularly and consistently, and was followed by the membership. There was evidence of political communication because of regular membership meetings which voted on key issues, rather such issues being simply voted on by the council group itself, although there was not strong evidence about communication from membership to the leadership except for the past several years. This is supporting evidence for political influence.

In the PEP, political processes were shown by dealing with the issues of importance to the membership—the same issues as in EP to a considerable extent, and also the issue of whether the two organizations should merge. There were also internal conflicts over other issues, specifically the method of governance, which mobilized political support and opposition along the lines of family subdivisions. The PEP organization also controls and allocates a portion of the reservation land, on a more limited basis than EP, among its membership.

Each petitioner has controlled allocation of reservation resources, among their respective memberships. This allocation is not sufficient evidence of political processes in itself under § 83.7(c)(2)(i), because the processes are parallel rather than a single process, but is strong evidence of political processes.

The Eastern Pequot tribe, comprising both petitioners, demonstrates political processes in which the same political issues and conflicts that occurred earlier continue today. In this context, the evidence for each petitioner, in combination, demonstrates that only a single tribe, a tribe with significant political processes, exists today, notwithstanding the present organization of those processes into two distinct segments. One petitioner, the EP, has supported the creation of a single tribal organization encompassing the membership of both. The PEP from time to time has negotiated with the EP on this issue, manifesting an internal division of political opinion within its own membership as to whether PEP should organize together with the EP as a single tribe.

The continuous historical State recognition and relationship are based on the existence of a single Eastern Pequot tribe, resident on a single land base which the tribe has occupied since colonial times and continues to occupy jointly. These facts provide added evidence that the petitioners meet the regulations as a single political body, notwithstanding current divisions and organization.

The Eastern Pequot have existed as a distinct community within which political influence has been exercised since first sustained contact with Europeans. The historical Eastern Pequot tribe, comprising both current petitioners, meets the requirements of criterion 83.7(c).

Criterion 83.7(d): Each petitioner met the requirements for criterion 83.7(d) separately by submitting a governing document which described its membership eligibility provisions. Given the present division into two organizations, the historical Eastern Pequot tribe does not presently have an overarching governing document, although all members are covered by the two documents presented. The presentation of two governing documents is sufficient to meet the requirements of this section of the regulations to submit copies of the governing documents of the group. The historical Eastern Pequot tribe meets the requirements of criterion 83.7(d).

Criterion 83.7(e): The proposed findings examined the evidence and concluded, on the basis of evidence acceptable to the Secretary, that the Brushell/Sebastian, Fagins/Watson, Hoxie/Jackson, and Gardner lines descend from the historical Eastern Pequot tribe within the meaning of the regulations. The EP proposed finding did not examine the evidence in regard to the Fagins/Randall line. The EP identified such descendants on its revised membership list submitted for the final determination. Examination of the evidence in regard to Abby (Fagins) Randall and her sons leads to the conclusion that on the basis of evidence acceptable to the Secretary, the members of this family line descend from the historical Eastern Pequot tribe within the meaning of the regulations.

Therefore, this final determination concludes that all the current members of both petitioners descend from the historical Eastern Pequot tribe. The historical Eastern Pequot tribe, comprising the membership of both petitioners, meets criterion 83.7(e).

Criterion 83.7(f): The final determination affirms the proposed findings' conclusions that a predominant portion of neither petitioner's members were enrolled with any federally acknowledged tribe. The same conclusion is applicable to the Eastern Pequot tribe as a whole. Therefore, the historical Eastern Pequot tribe meets criterion 83.7(f).

Criterion 83.7(g): This final determination affirms the proposed findings' conclusion that neither petitioner had been the subject of legislation terminating a Federal relationship. The same conclusion is applicable to the Eastern Pequot tribe as a whole. Therefore, the historical Eastern Pequot tribe meets criterion 83.7(g).

The historical Eastern Pequot tribe, represented by two petitioners, EP and PEP, meets all of the criteria for Federal acknowledgment as a tribe stated in 25 CFR § 83.7 and therefore meets the requirements to be acknowledged as tribe with a government-to-government relationship with the United States.

Because this final determination recognizes a single historical tribe represented by two petitioners, the Assistant Secretary will deal with both petitioners in the process of developing a governing document for the historical Eastern Pequot tribe. Pursuant to 25 CFR 83.12(b), the base roll for determining future membership of the tribe shall consist of the combined membership lists of the two petitioners submitted for these final determinations.

This determination is final and will become effective 90 days from the date of publication, unless a request for reconsideration is filed pursuant to 25 CFR 83.11. The petitioners or any interested party may file a request for reconsideration of this determination with the Interior Board of Indian Appeals (83.11(a)(1)). A petitioner's or interested party's request must be received no later than 90 days after publication of this notice of the Assistant Secretary's determination in the Federal Register (83.11(a)(2)).

Dated: June 24, 2002.
Neal A. McCaleb,
Assistant Secretary—Indian Affairs.

[FR Doc. 02-16625 Filed 6-28-02; 8:45 am]

BILLING CODE 4310-02-P